U.S. INTERNATIONAL DEVELOPMENT FINANCE CORPORATION

[DFC-007]

Submission for OMB Review; Comments Request

AGENCY: U.S. International Development Finance Corporation (DFC).

ACTION: Notice of information collection; request for comment.

SUMMARY: Under the provisions of the Paperwork Reduction Act, agencies are required to publish a Notice in the Federal Register notifying the public that the agency is creating a new information collection for OMB review and approval and requests public review and comment on the submission. We received 1 set of comments and 7 changes were made to the form as a result. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: DFC intends to begin use of this collection on December 22, 2020.

Comments must be received by November 27, 2020.

ADDRESSES: Comments and requests for copies of the subject information collection may be sent by any of the following methods:

• Mail: Joanna Reynolds, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds, (202) 357-3979.

SUPPLEMENTARY INFORMATION: This notice informs the public that DFC will submit to OMB a request for approval of the following information collection.

The agencies received comments in response to the sixty (60) day notice published in Federal Register volume 85 page 41573 on July 10, 2020. In response to these comments, DFC modified the collection to:

• Attach documentation on the Project's plans;

• clarify which language their policies and plans are in;

• clarify if the Project is associated with an OECD National Contact Point complaint;

• explain if the Project has a protocol to address threats of retaliation against grievance mechanism complaints;

DFC also made additional minor changes to the language and scope of questions and sections.

Summary Form Under Review

Title of Collection: Impact Assessment Questionnaire.

Type of Review: Revision of a currently approved information collection.

Agency Form Number: DFC-007.

OMB Form Number: 3015-0009.

Frequency: Once per investor per project.

Affected Public: Business or other for-profit; not-for-profit institutions; individuals.

Total Estimated Number of Annual Number of Respondents: 250.

Estimated Time per Respondent: 2.5 hours.

Total Estimated Number of Annual Burden Hours: 625 hours.

Abstract: The DFC Impact Assessment Questionnaire is the principal document used by the agency's application process to initiate the assessment of a potential project's predicted development impact, as well as the project's ability to comply with environmental and social policies, including labor and human rights, as consistent with the agency's authorizing legislation.

Dated: October 19, 2020.
Nichole Skoyles,
Administrative Counsel, Office of the General Counsel.

[FR Doc. 2020-23702 Filed 10-26-20; 8:45 am]

BILLING CODE 3210-02-P